DEPARTMENT OF HEALTH AND HUMAN SERVICES

Administration on Aging

[Program Announcement No. AoA-03-02]

Fiscal Year 2003 Program Announcement; Availability of Funds and Notice Regarding Applications

AGENCY: Administration on Aging, HHS.

ACTION: Announcement of availability of funds and request for applications.

SUMMARY: The Administration on Aging announces that under this program announcement it will hold a competition for “Senior Medicare Patrol Projects” for up to 24 cooperative agreements at a federal share of approximately $175,000 per year for a project period of three years.

Legislative authority: The Older Americans Act, Public Law 106-501 (Catalog of Federal Domestic Assistance 93.048, Title IV and Title II Discretionary Projects).

Purpose of grant awards: The purpose of these projects is to test the best ways of using the skills of retired nurses, doctors, accountants and other professionals to train seniors to serve as expert resources to detect and stop health care error, fraud, and abuse. The award is a cooperative agreement because the Administration on Aging will be substantially involved in the development and execution of the activities of the projects. The cooperative agreement will provide for training, technical assistance and support to projects in every state.

Eligibility for grant awards and other requirements: Eligibility for grant awards is limited to public, state and local agencies, federally recognized tribes, or nonprofit agencies, organizations, and institutions in the following states: California, Hawaii, Illinois, Indiana, Iowa, Kansas, Louisiana, Maryland, Minnesota, Mississippi, Missouri, Nebraska, New Hampshire, New York, North Carolina, North Dakota, Pennsylvania, Rhode Island, South Carolina, South Dakota, Utah, Vermont, Wisconsin, and Wyoming—to carry out cooperative agreement awards to train retired persons to serve in their communities as volunteer expert resources and educators in combating health care error, fraud, and abuse. Faith-based organizations are eligible to apply from the states listed above.

The Administration on Aging is currently funding “Senior Medicare Patrol Projects” in the remaining 26 states, plus the District of Columbia and Puerto Rico. No further awards will be made in these states.

Grantees are required to provide at least 25% of the total program costs from non-federal cash or in-kind resources in order to be considered for the award.

DATES: The deadline date for the submission of applications is May 22, 2003.

ADDRESSES: Application kits are available by writing to the U.S. Department of Health and Human Services, Administration on Aging, Office of Consumer Choice and Protection, Washington, DC 20201, attn: Doris Summey, or by calling 202/357-3533 or 202/357-3532. Applications must be mailed to the above address or hand-delivered to the Office of Grants Management, Room 4604, One Massachusetts Avenue, NW., Washington, DC 20001. Application kits and instructions for electronic mailing of grant applications are available at http://www.aoa.gov/egrants.

Dated: April 2, 2003.
Josefina G. Carbonell,
Assistant Secretary for Aging.

[FR Doc. 03-8418 Filed 4-4-03; 8:45 am]

BILLING CODE 4154-01-P